DEPARTMENT OF TRANSPORTATION

Federal Aviation Administration

[Docket No. FAA-2025-2994]

Notice of Guidance: Transporting Hazardous Materials by Unmanned Aircraft Systems (UAS)

AGENCY: Federal Aviation Administration (FAA), Security and Hazardous Materials Safety, and Department of Transportation, Pipeline and Hazardous Materials Safety Administration (PHMSA), Office of Hazardous Materials Safety.

ACTION: Notice.

SUMMARY: This notice announces the availability of a joint FAA-PHMSA guidance document on transporting hazardous materials by Unmanned Aircraft Systems (UAS). This document is available at: https://www.faa.gov/hazmat/air_carriers/operations/drones.

DATES: This guidance document is available as of November 19, 2025. Written comments should be submitted by December 19, 2025.

FOR FURTHER INFORMATION CONTACT:

Lori Ambers, 405-954-0088, Office of Hazardous Materials Safety, Security and Hazardous Materials Safety, Federal Aviation Administration, U.S. Department of Transportation, 800 Independence Avenue SW, Washington, DC 20591-0001 or

Steven Andrews, 202-366-8553, Standards and Rulemaking Division, Pipeline and Hazardous Materials Safety Administration, U.S. Department of Transportation, 1200 New Jersey Avenue SE, Washington, DC 20590-000.

SUPPLEMENTARY INFORMATION: Section 933 of the FAA Reauthorization Act of 2024, titled “Special Authority for Transport of Hazardous Materials by Commercial Package Delivery Unmanned Aircraft Systems,” directs the Secretary of Transportation to use a risk-based approach to establish the operational requirements, standards, or special permits necessary to approve or authorize an air carrier to transport hazardous materials by UAS providing common carriage under Title 14 of the Code of Federal Regulations (14 CFR) part 135, or under successor authorities, as applicable, based on the weight, amount, and type of hazardous material being transported and the characteristics of the operations subject to such requirements, standards, or special purposes (see subsection (a)). The FAA and PHMSA addressed subsection (e)(1) of the FAA Reauthorization Act of 2024 by hosting a joint public meeting on August 22, 2024.¹

¹ A recording and transcript of the public meeting as well as public comments can be found at https://www.regulations.gov/docket/PHMSA-2024-0117.

In addressing the statutory requirement, the FAA and PHMSA are providing guidance that will enable operators to account methodically for what can be unique risks associated with the transportation of hazardous materials by UAS. This guidance is intended for 14 CFR part 135 UAS applicants and certificate holders who seek authorization to transport hazardous materials, including those certificate holders seeking to expand the scope of their current hazardous materials programs. The document is available at: https://www.faa.gov/hazmat/air_carriers/operations/drones.

Signed in Washington, DC, on November 14, 2025.
Walter J. McBurrows, III,
Acting Executive Director, Office of Hazardous Materials Safety, FAA.

[FR Doc. 2025-20242 Filed 11-18-25; 8:45 am]

BILLING CODE 4910-13-P